NATIONAL ARCHIVES AND RECORDS ADMINISTRATION

[NARA-2016-002]

Nixon Presidential Historical Materials: Opening of Materials

AGENCY: National Archives and Records Administration.

ACTION: Notice of opening of additional materials.

SUMMARY: The Richard Nixon Presidential Library and Museum (a NARA division) is opening additional Nixon Presidential Historical Materials for public access. These materials include select White House Central Files: Subject Files and previously restricted materials from the National Security Council (NSC Files) and the Henry A. Kissinger (HAK) Office Files. In accordance with section 104 of Title I of the Presidential Recordings and Materials Preservation Act (PRMPA, 44 U.S.C. 2111 note) and § 1275.42(b) of the regulations implementing the Act (36 CFR part 1275), we have identified, inventoried, and prepared these additional textual materials for public access with certain information redacted as required by law.

DATES: The materials described in this notice will be available to the public on Monday, November 30, 2015, beginning at 9:30 a.m. PDT (12:30 p.m. EDT).

In accordance with 36 CFR 1275.44, any person who believes it necessary to file a claim of legal right or privilege concerning access to these materials must notify the Archivist of the United States in writing of the claimed right, privilege, or defense by November 27, 2015.

ADDRESSES: The materials will be available for viewing at the Richard Nixon Presidential Library and Museum; 18001 Yorba Linda Blvd.; Yorba Linda, CA. You must send any written petition asserting a legal or constitutional right or privilege that would prevent or limit public access to the materials by mail to The Archivist of the United States; National Archives and Records Administration; 8601 Adelphi Rd.; College Park, MD 20740-6001.

FOR FURTHER INFORMATION CONTACT: Jason Schultz, Richard Nixon Presidential Library and Museum, by telephone at 714-983-9292, or by email at jason.schultz@nara.gov.

SUPPLEMENTARY INFORMATION: Researchers must have a NARA researcher card to view the materials; you may obtain one when you arrive at the Library.

Description of Materials

We are making the following materials available through this notice:

1. Previously restricted textual materials. Volume: 1 cubic foot. A number of textual materials previously withheld from public access have been reviewed for release or declassified under the systematic declassification review provisions and under the mandatory review provisions of Executive Order 13526, the Freedom of Information Act (5 U.S.C. 552), or in accordance with 36 CFR 1275.56 (Public access regulations). The materials are from integral file segments for the National Security Council (NSC Files) and the Henry A. Kissinger (HAK) Office Files.

2. White House Central Files: Subject Files: Volume: 42 cubic feet. The White House Central Files Unit is a permanent organization within the White House complex that maintains a central filing and retrieval system for the records of the President and his staff. The Subject Files are based on an alphanumeric file scheme of 61 primary subject categories. Through this notice, we are making the following subject categories from FG (Federal Government-Organizations) available:

FG 6-11 White House Office

FG 6-11-1 White House Staff

Dated: October 21, 2015.
David S. Ferriero,
Archivist of the United States.

[FR Doc. 2015-27339 Filed 10-27-15; 8:45 am]

BILLING CODE 7515-01-P